DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the following information collection: (1) 29 CFR part 825, The Family and Medical Leave Act of 1993.

DATES: Written comments must be submitted to the office listed in the addressee section below by February 26, 2002.

ADDRESSES: Ms. Patricia A. Forkel, U.S. Department of Labor, 200 Constitution Ave., NW., Room S-3201, Washington, DC 20210, telephone (202) 693-0339 (this is not a toll-free number), fax (202) 693-1451, E-mail: pforkel@fenix2.dol-esa.gov.

SUPPLEMENTARY INFORMATION:

I. Background

The Family and Medical Leave Act of 1993 (FMLA), Public Law 103-3, 107 Stat. 6, 29 U.S.C. 2601, which became effective on August 5, 1993, requires private sector employers of 50 or more employees, and public agencies, to provide up to 12 weeks of unpaid, job-protected leave during any 12-month period to eligible employees for certain family and medical reasons. Leave must be granted to eligible employees because of the birth of a child and to care for the newborn child, because of placement of a child with the employee for adoption or foster care, because the employee is needed to care for a family member (child, spouse, or parent) with a serious health condition, or because the employee's own serious health condition makes the employee unable to perform any of the essential functions of his or her job. This information collection contains all recordkeeping and notification requirements associated with the Act and regulations. Two optional forms are included in this information collection request. The Certification of Health Care Provider (WH-380) may be used to certify a serious health condition under FMLA. The Employer Response to Employee Request for Family or Medical Leave (WH-381) may be used by an employer to respond to a leave request under FMLA. Both forms are third-party notifications and are sent to the employee; they are not submitted to the Department of Labor.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions

The Department of Labor seeks approval for the extension of this information collection in order to ensure that both employers and employees are aware of and can exercise their rights and meet their respective obligations under FMLA; and in order for the Department of Labor to carry out its statutory obligation under FMLA to investigate and ensure employer compliance.

Type of Review: Extension.

Agency: Employment Standards Administration.

Title: 29 CR part 825, The Family and Medical Leave Act of 1993.

OMB Number: 1215-0181.

Agency Numbers: WH-380, WH-381.

Affected Public: Individuals or households; Businesses or other for-profit; Not-for-profit Institutions; Farms, State, Local or Tribal Government.

Frequency: On occasion (recordkeeping, third-party disclosure).

Total Respondents: 4.7 million.

Total Responses: 10.107 million.

Time per Record: 1 to 10 minutes.

Estimated Total Burden Hours: 718,529.

Total Burden Cost (capital/startup): $0.

Total Burden Cost (operating/maintenance): $0.

Comments submitted in response to this notice will be summarized and/or included in the request for Office of Management and Budget approval of the information collection request; they will also become a matter of public record.

Dated: December 7, 2001.
Margaret J. Sherrill,
Chief, Branch of Management, Review, and Internal Control, Chief, Division of Financial Management, Office of Management, Administration and Planning, Employment Standards Administration.

[FR Doc. 01-31963 Filed 12-27-01; 8:45 am]

BILLING CODE 4510-27-P